DEPARTMENT OF COMMERCE

International Trade Administration

[A-588-810]

Mechanical Transfer Presses From Japan: Extension of Time Limit for Final Results of Antidumping Administrative Review

AGENCY: Import Administration, International Trade Administration, Department of Commerce.

SUMMARY: The Department of Commerce is extending the time limit for the final results of the administrative review of mechanical transfer presses (MTPs) from Japan until no later than July 14, 2004. The period of review is February 1, 2002 through January 31, 2003. This extension is made pursuant to section 751(a)(3)(A) of the Tariff Act of 1930, as amended (the Act).

DATES: Effective Date: June 29, 2004.

FOR FURTHER INFORMATION CONTACT: Jacqueline Arrowsmith, Office of AD/CVD Enforcement VII, Import Administration, International Trade Administration, U.S. Department of Commerce, 14th Street and Constitution Avenue, NW., Washington DC 20230; telephone: (202) 482-5255.

Background

On February 16, 1990, the Department issued an antidumping duty order on mechanical transfer presses from Japan. See Antidumping Duty Order: Mechanical Transfer Presses from Japan, 55 FR 5642 (February 16, 1990). The term “mechanical transfer presses” refers to automatic metal-forming machine tools with multiple die stations in which the work piece is moved from station to station by a transfer mechanism designed as an integral part of the press and synchronized with the press action, whether imported as machines or parts suitable for use solely or principally with these machines. These presses may be imported assembled or unassembled. See Mechanical Transfer Presses From Japan: Final Results of Antidumping Administrative Review 68 FR 39515.

On February 24, 2003, the Department of Commerce (the Department) received a timely request for administrative review of the antidumping duty order on MTPs from Japan from respondent Hitachi Zosen Corporation (HZC), and its subsidiary Hitachi Zosen Fukui Corporation d/b/a H&F Corporation (H&F). On February 27, 2003, the Department received a timely request from petitioner, IHI—Verson Press Technology, LLC for an administrative review of HZC and H&F. On February 28, 2003, HZC and H&F submitted a timely request that the Department revoke the order with respect to HZC and H&F based on the absence of dumping in three consecutive reviews, in accordance with section 351.222(e) of the Department's regulations. On March 25, 2003, the Department published a notice of initiation of this administrative review, covering the period of February 1, 2002 through January 31, 2003 (see 68 FR 14394), for HZC and its subsidiary H&F. On October 15, 2003, the Department published the Mechanical Transfer Presses from Japan: Extension of Time Limit for Preliminary Results of Antidumping Administrative Review, 68 FR 59365, in which we extended the preliminary results until not later than February 28, 2004.

On March 8, 2004, the Department published the Preliminary Results of Antidumping Duty Administrative Review and Preliminary Determination Not to Revoke, in-Part: Mechanical Transfer Presses from Japan, 69 FR 10675 (Preliminary Results). The final results of this administrative review are currently due not later than July 6, 2004.

Extension of Time Limits for the Final Results

HZC/H&F has requested revocation with respect to the order. There are complex issues with regard to the issue of revocation. Therefore, it is not practicable to complete this review within the time limits mandated by section 751(a)(3)(A) of the Act. The Department is therefore extending the time period for issuing the preliminary results of this review from July 6, 2004, until no later than July 14, 2004, in accordance with section 751(a)(3)(A) of the Act. This notice is published pursuant to sections 751(a)(3)(A) and 777(I)(1) of the Act.

Dated: June 18, 2004.
James J. Jochum,
Assistant Secretary for Import Administration.

[FR Doc. 04-14709 Filed 6-28-04; 8:45 am]

BILLING CODE 3510-DS-P